DEPARTMENT OF HEALTH AND HUMAN SERVICES

Health Resources and Services Administration

Agency Information Collection Activities: Submission to OMB for Review and Approval; Public Comment Request; Information Collection Request Title: HRSA Ryan White HIV/AIDS Program AIDS Education and Training Centers Evaluation Activities, OMB No. 0915-0281—Revision

AGENCY: Health Resources and Services Administration (HRSA), Department of Health and Human Services (HHS).

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than June 14, 2019.

ADDRESSES: Submit your comments, including the ICR Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer, at paperwork@hrsa.gov or call (301) 443-1984.

SUPPLEMENTARY INFORMATION: Information Collection Request Title: HRSA Ryan White HIV/AIDS Program AIDS Education and Training Centers Evaluation Activities: (OMB No. 0915-0281) Revision.

Abstract: The RWHAP AETC program, authorized by Title XXVI of the Public Health Service Act, supports a network of regional and national centers that conduct targeted, multidisciplinary education and training programs for health care providers serving people living with HIV (PLWH). The purpose of the RWHAP AETC program is to increase the size and strengthen the skills of the current and novice HIV clinical workforce in the United States and to develop and disseminate information on treatment and prevention of HIV to at-risk populations. Through the provision of specialized professional education and training, the RWHAP Regional AETCs aim to improve outcomes along the HIV care continuum including diagnosis, linkage, retention, and viral suppression and to reduce HIV incidence by improving the achievement and maintenance of viral load suppression of PLWH. In addition, the RWHAP AETC program includes the National Coordinating Resource Center (NCRC), which offers a virtual library of online training resources for adaptation by HIV care providers and other healthcare professionals to meet local training needs. The RWHAP AETC NCRC works closely with the HRSA HIV/AIDS Bureau (HAB) to coordinate cross-regional collaborative efforts, manage the NCRC website, plan and execute the national RWHAP Clinical Conference, and develop an online curriculum for clinical learners.

The RWHAP AETC proposes several revisions to the Event Records (ER) and the Participant Information Form (PIF). The ER will have 11 new data elements; however, only 7 data elements will require responses from all respondents. The option to respond to the other four data elements will depend on how participants respond to previous questions. There are four data element deletions to the ER.

The PIF will have one new data element that asks whether respondents prescribe antiretroviral therapy to their patients. Two data elements were deleted. These revisions reflect changes in the National AETC program guidance on reporting sources of funding and multi-session events.

Despite a net increase of eight data elements across both the ER and PIF instruments, pilot respondents reported a decrease in burden. HRSA HAB modified the data instruments to help inform the evaluation of AETC outcomes, improve the logical flow of questions within each instrument and to improve the overall clarity of each of the questions being asked.

A 60-day Federal Register Notice was published in the Federal Register on December 18, 2018, vol. 83, No. 242; pp. 64845-47. There were no public comments.

Need and Proposed Use of the Information: As part of an ongoing effort to evaluate RWHAP AETC activities, information is needed on AETC training sessions, clinical consultations, and technical assistance activities. Each regional center collects information on RWHAP AETC training events and is required to report aggregate data on their activities to HRSA's HAB. The goal of national data collection efforts is to create a uniform set of data elements that will produce an accurate summary of the national scope of RWHAP AETC professional training, consultation, and events. The elements included in the national database have been selected for their relevance in demonstrating the RWHAP AETCs' efforts in achieving the program's stated goals: To improve care for PLWH by providing education, training, and clinical consultation; and to provide support to clinicians and other providers. HRSA HAB uses the data collected when conducting programmatic assessments and to determine future program needs. The national data elements are intended to be a meaningful core set of elements that individual RWHAP AETCs can use in programmatic and strategic planning. HRSA HAB also uses this information to respond to requests from HHS, Congress, and others.

Likely Respondents: RWHAP AETC trainees are asked to complete the PIF either at the start or at conclusion of an event. Trainers are asked to complete an ER for each training event they conduct during the year. In addition, each regional RWHAP AETC (eight total) and the RWHAP AETC National Coordinating Resource Center will compile these data into a data set and submit to HRSA HAB once a year.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

The estimated annual response burden to trainers, as well as trainees of training programs is follows:

Form name | Number of respondents | Number of responses per respondent | Total responses | Average burden per response (in hours) | Total burden hours
Participant Information Form (PIF) | 61,288 | 1 | 61,288 | 0.05 | 3,064
Event Record (ER) | 10,522 | 1 | 10,522 | 0.13 | 1,368
Total | 71,810 |  | 71,810 |  | 4,432

The estimated annual burden to RWHAP AETCs is as follows:

| Number of respondents | Responses per respondent | Total responses | Hours per response | Total burden hours
Aggregate Data Set | 9 | 1 | 9 | 10 | 90

Amy P. McNulty,
Acting Director, Division of the Executive Secretariat.

[FR Doc. 2019-09976 Filed 5-14-19; 8:45 am]

BILLING CODE 4165-15-P